INTERNATIONAL TRADE COMMISSION

[Investigations Nos. 731-TA-298 and 299 (Second Review); Investigations Nos. 701-TA-267 and 268 and 731-TA-304 and 305 (Second Review)]

Porcelain-on-Steel Cooking Ware From China and Taiwan; Top-of-the-Stove Stainless Steel Cooking Ware From Korea and Taiwan

Determinations

On the basis of the record ¹ developed in the subject five-year reviews, the United States International Trade Commission (Commission) determines, pursuant to section 751(c) of the Tariff Act of 1930 (19 U.S.C. 1675(c)) (the Act), that revocation of the antidumping duty orders on porcelain-on-steel cooking ware from China and Taiwan would be likely to lead to continuation or recurrence of material injury to an industry in the United States within a reasonably foreseeable time. The Commission also determines that revocation of the antidumping and countervailing duty orders on top-of-the-stove stainless steel cooking ware from Korea would be likely to lead to continuation or recurrence of material injury to an industry in the United States within a reasonably foreseeable time,² and that revocation of the antidumping and countervailing duty orders on top-of-the-stove stainless steel cooking ware from Taiwan would not be likely to lead to continuation or recurrence of material injury to an industry in the United States within a reasonably foreseeable time.

¹ The record is defined in sec. 207.2(f) of the Commission's Rules of Practice and Procedure (19 CFR 207.2(f)).

² Vice Chairman Deanna Tanner Okun, Commissioner Charlotte R. Lane, and Commissioner Daniel R. Pearson dissenting.

Background

The Commission instituted these reviews on March 1, 2005 (70 FR 9974) and determined on June 6, 2005 that it would conduct expedited reviews (70 FR 35708, June 21, 2005).

The Commission transmitted its determinations in these reviews to the Secretary of Commerce on October 27, 2005. The views of the Commission are contained in USITC Publication 3808 (October 2005), entitled Porcelain-on-Steel Cooking Ware From China and Taiwan, and Top-of-the-Stove Stainless Steel Cooking Ware From Korea and Taiwan (Investigation Nos. 731-TA-298 and 299 (Second Review) and Investigation Nos. 701-TA-267 and 268 and 731-TA-304 and 305 (Second Review)).

By order of the Commission.
Issued: November 1, 2005.
Marilyn R. Abbott,
Secretary to the Commission.

[FR Doc. 05-22158 Filed 11-7-05; 8:45 am]

BILLING CODE 7020-02-P